DEPARTMENT OF COMMERCE

National Oceanic and Atmospheric Administration

50 CFR Part 622

RIN 0648-BD68

Fisheries of the Caribbean, Gulf of Mexico, and South Atlantic; Reef Fish Fishery of the Gulf of Mexico; Red Snapper Management Measures; Amendment 28

AGENCY: National Marine Fisheries Service (NMFS), National Oceanic and Atmospheric Administration (NOAA), Commerce.

ACTION: Notice of availability; request for comments.

SUMMARY: The Gulf of Mexico Fishery Management Council (Council) has submitted Amendment 28 to the Fishery Management Plan for the Reef Fish Resources of the Gulf of Mexico (FMP) for review, approval, and implementation by NMFS. Amendment 28 would revise the Gulf of Mexico (Gulf) red snapper commercial and recreational sector allocations of the stock annual catch limit (ACL). If Amendment 28 is approved and implemented, it would result in changes to the red snapper commercial and recreational quotas and the recreational annual catch target (ACT). Additionally, the Federal charter vessel/headboat and private angling component ACLs and ACTs, which are based on the recreational sector's ACL and ACT, would also be revised. The intent of Amendment 28 is to reallocate the Gulf red snapper harvest consistent with the 2014 red snapper update assessment while ensuring the allowable catch and recovery benefits from the rebuilding red snapper stock are fairly and equitably allocated between the commercial and recreational sectors to achieve optimum yield (OY).

DATES: Written comments must be received on or before February 22, 2016.

ADDRESSES: You may submit comments on Amendment 28, identified by “NOAA-NMFS-2013-0146” by either of the following methods:

• Electronic Submission: Submit all electronic public comments via the Federal e-Rulemaking Portal. Go to www.regulations.gov/#!docketDetail;D=NOAA-NMFS-2013-0146, click the “Comment Now!” icon, complete the required fields, and enter or attach your comments.

• Mail: Submit written comments to Peter Hood, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of Amendment 28, which includes an environmental impact statement, a fishery impact statement, a Regulatory Flexibility Act analysis, and a regulatory impact review, may be obtained from the Southeast Regional Office Web site at http://sero.nmfs.noaa.gov.

FOR FURTHER INFORMATION CONTACT: Peter Hood, Southeast Regional Office, NMFS, telephone: 727-824-5305; email: Peter.Hood@noaa.gov.

SUPPLEMENTARY INFORMATION: The Magnuson-Stevens Fishery Conservation and Management Act (Magnuson-Stevens Act) requires each regional fishery management council to submit any FMP or amendment to NMFS for review and approval, partial approval, or disapproval. The Magnuson-Stevens Act also requires that NMFS, upon receiving a plan or amendment, publish an announcement in the Federal Register notifying the public that the plan or amendment is available for review and comment.

The FMP being revised by Amendment 28 was prepared by the Council and implemented through regulations at 50 CFR part 622 under the authority of the Magnuson-Stevens Act.

Background

The Magnuson-Stevens Act requires NMFS and regional fishery management councils to prevent overfishing and achieve, on a continuing basis, OY from federally managed fish stocks. The Magnuson-Stevens Act requires that in allocating fishing privileges among fishermen, such allocation shall be fair and equitable to all such fishermen, reasonably calculated to promote conservation, and carried out in such a manner that no particular individual, corporation, or other entity acquires an excessive share of such privileges. For stocks like red snapper, which are subject to a rebuilding plan, the Magnuson-Stevens Act also requires that harvest restrictions and recovery benefits are fairly and equitably allocated among the commercial, recreational, and charter fishing sectors. These mandates are intended to ensure fishery resources are managed for the greatest overall benefit to the nation, particularly with respect to providing food production and recreational opportunities, and protecting marine ecosystems. Amendment 28 would reallocate red snapper harvest from the commercial sector to the recreational sector. The reallocation would reduce the current commercial allocation from 51 percent to 48.5 percent of the stock ACL and the recreational allocation would increase from 49 percent to 51.5 percent of the stock ACL. All weights described in this notice are in round (whole) weight.

Management Measures Contained in Amendment 28

The initial Gulf red snapper allocation was set in Reef Fish Amendment 1 to the FMP and was based on the percentage of total landings during the base period of 1979-1987 (55 FR 2078, January 22, 1990). In Amendment 28, the Council evaluated several different Gulf red snapper allocation alternatives. These alternatives included straightforward allocation percentage changes, changes based on the red snapper stock ACL increases, and changes in the recreational catch information used in the 2014 update assessment to the 2013 Gulf red snapper Southeast Data, Assessment, and Review (SEDAR) 31 benchmark assessment. The Council initially considered alternatives that would increase the commercial sector's red snapper allocation. At that time, analyses from the NMFS Southeast Fisheries Science Center (SEFSC) suggested that shifting red snapper allocation from the commercial to the recreational sector would increase net economic benefits. Thus, the Council determined that reallocating red snapper to the commercial sector would not achieve the purpose of the amendment at that time, which was to increase the net benefits from red snapper fishing and increase the stability of the red snapper component of the reef fish fishery, particularly for the recreational sector. Therefore, the Council removed these alternatives from the amendment. After the 2014 update assessment, the purpose and need statement of the amendment was revised to reallocating the red snapper harvest consistent with the assessment update to ensure the allowable catch and recovery benefits are fairly and equitably allocated between the commercial and recreational sectors. When the draft environmental impact statement (EIS) was published for comment, it included this revised purpose and need statement and two new alternatives added by the Council to address the new information and the revised purpose and need. The draft EIS did not include alternatives that would increase the commercial sector's allocation because the new scientific information did not change any previous understanding of commercial landings. More information about the Council's decision not to include these alternatives and an analysis of the environmental consequences of increasing the commercial allocation are provided in the response to comments section (Appendix D) of Amendment 28 and integrated final EIS.

The preferred alternative in Amendment 28 would revise the Gulf red snapper allocation to 48.5 percent of the stock ACL to the commercial sector and 51.5 percent of the stock ACL to the recreational sector. This results in proposed commercial quotas (48.5 percent of the stock ACL) of 6.768 million lb (3.070 million kg) and 6.664 million lb (3.023 million kg) for the 2016 and 2017 fishing years, respectively. The recreational quota (51.5 percent of the stock ACL) would be 7.192 million lb (3.262 million kg) and 7.076 million lb (3.210 million kg) for the 2016 and 2017 fishing years, respectively. For the recreational sector, the ACT would be set 20 percent less than the recreational quotas and, as described in Amendment 40 to the FMP, the recreational quota and ACT would be further divided into Federal charter vessel/headboat and private angling component quotas and ACTs (80 FR 22422, April 22, 2015).

A proposed rule that would implement Amendment 28 has been drafted. In accordance with the Magnuson-Stevens Act, NMFS is evaluating Amendment 28 to determine whether it is consistent with the FMP, the Magnuson-Stevens Act, and other applicable law. If the preliminary determination is affirmative, NMFS will publish the proposed rule in the Federal Register for public review and comment.

Consideration of Public Comments

The Council submitted Amendment 28 for Secretarial review, approval, and implementation. Comments received by February 22, 2016, whether specifically directed to the amendment or the proposed rule, will be considered by NMFS in its decision to approve, partially approve, or disapprove Amendment 28. Comments received after that date will not be considered by NMFS in this decision. All comments received by NMFS on the amendment or the proposed rule during their respective comment periods will be addressed in the final rule.

Authority: 16 U.S.C. 1801 et seq.

Dated: December 21, 2015.
Alan D. Risenhoover,
Director, Office of Sustainable Fisheries, National Marine Fisheries Service.

[FR Doc. 2015-32445 Filed 12-23-15; 8:45 am]

BILLING CODE 3510-22-P